ENVIRONMENTAL PROTECTION AGENCY

[EPA-HQ-OPP-2013-0490; FRL-9902-06]

FIFRA Scientific Advisory Panel; Notice of Cancellation

AGENCY: Environmental Protection Agency (EPA).

ACTION: Notice.

SUMMARY: The Agency is issuing this notice to cancel the 3-day meeting of the Federal Insecticide, Fungicide, and Rodenticide Act Scientific Advisory Panel (FIFRA SAP) to consider and review scientific uncertainties associated with corn rootworm resistance monitoring for Bt corn Plant Incorporated Protectants (PIPs) scheduled for October 30—November 1, 2013. The meeting was announced in the Federal Register on August 9, 2013. The meeting will be rescheduled.

FOR FURTHER INFORMATION CONTACT: Fred Jenkins, DFO, Office of Science Coordination and Policy (7201M), Environmental Protection Agency, 1200 Pennsylvania Ave. NW., Washington, DC 20460-0001; telephone number: (202) 564-3327; fax number: (202) 564-8382; email address: jenkins.fred@epa.gov.

SUPPLEMENTARY INFORMATION: The meeting was announced in the Federal Register on August 9, 2013 (78 FR 48672, FRL-9394-3). This meeting will be rescheduled in the near future and announced in the Federal Register.

List of Subjects

Environmental protection, Pesticides and pests.

Dated: October 23, 2013.
David Dix,
Director, Office of Science Coordination and Policy.

[FR Doc. 2013-25572 Filed 10-24-13; 4:15 pm]

BILLING CODE 6560-50-P